DEPARTMENT OF DEFENSE

Office of the Secretary

[Docket ID: DoD-2023-OS-0036]

Submission for OMB Review; Comment Request

AGENCY: Office of the Under Secretary of Defense for Acquisition and Sustainment, Department of Defense (DoD).

ACTION: 30-Day information collection notice.

SUMMARY: The DoD has submitted to the Office of Management and Budget (OMB) for clearance the following proposal for collection of information under the provisions of the Paperwork Reduction Act.

DATES: Consideration will be given to all comments received by August 25, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: DoD DLA Desktop Browse Survey; OMB Control Number 0704-DDBS.

Type of Request: New.

Number of Respondents: 1,600.

Responses per Respondent: 1.

Annual Responses: 1,600.

Average Burden per Response: 6 Minutes.

Annual Burden Hours: 160.

Needs and Uses: The Defense Logistics Agency is an organization with a public-facing website used to inform and work with its customers in the military services; federal, state, and local governments; industry and small business; and the general public. Measurement and feedback through surveying is needed to better meet the needs of the agency's audiences and provide both overall goals for improvement and to address specific issues presented by website visitors. DLA Public Affairs uses the feedback to address immediate concerns and set both short and long-term goals for improving the agency's website. Actionable survey comments are addressed with DLA offices who manage the corresponding website content for quick, specific, and direct content improvements. Short-term actions include fixing broken links, adding or updating page content, restructuring, or altering page layouts to make content easier to browse, and creating new resources to meet previously unknown customer needs. Combined data and trends inform DLA Public Affairs strategy for larger-scale website improvement projects and are summarized for DLA senior leader awareness and long-term planning. Larger efforts include changes to sitewide navigation, homepage redesigns, and aggregating previously dispersed similar sitewide resources to central, prominent places.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: July 19, 2023.
Aaron T. Siegel,
Alternate OSD Federal Register Liaison Officer, Department of Defense.

[FR Doc. 2023-15802 Filed 7-25-23; 8:45 am]

BILLING CODE 5001-06-P